DEPARTMENT OF THE TREASURY

United States Mint

Pricing for 2011 American Eagle Silver Proof and Uncirculated Coins

AGENCY: United States Mint, Department of the Treasury.

ACTION: Notice.

SUMMARY: The United States Mint is announcing the re-pricing of the 2011 American Eagle Silver Proof and Uncirculated Coins. The price of the 2011 American Eagle Silver Proof Coins will be lowered from $68.45 to $58.95, and the price of the 2011 American Eagle Silver Uncirculated Coins will be lowered from $60.45 to $50.95.

FOR FURTHER INFORMATION CONTACT: B. B. Craig, Associate Director for Sales and Marketing; United States Mint; 801 9th Street, NW., Washington, DC 20220; or call 202-354-7500.

Authority: 31 U.S.C. 5111, 5112 & 9701.

Dated: October 13, 2011.
Richard A. Peterson,
Deputy Director, United States Mint.

[FR Doc. 2011-27250 Filed 10-20-11; 8:45 am]

BILLING CODE P